DEPARTMENT OF VETERANS AFFAIRS

[OMB Control No. 2900-0681]

Agency Information Collection: Preliminary Independent Living (IL) Assessment, VA Form 28-0791

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before August 12, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0681” in any correspondence.

FOR FURTHER INFORMATION CONTACT: Crystal Rennie, Enterprise Records Service (005R1B), Department of Veterans Affairs, 810 Vermont Avenue NW, Washington, DC 20420, (202) 632-7492 or email crystal.rennie@va.gov. Please refer to “OMB Control No. 2900-0681.”

SUPPLEMENTARY INFORMATION: Title: Preliminary Independent Living (IL) Assessment.

OMB Control Number: 2900-0681.

Type of Review: Revision of a currently approved collection.

Abstract: VA case managers use VA Form 28-0791 while evaluating the independent living needs of veterans with severe disabilities. The data is used to determine the scope of the veteran's independent living under the Vocational Rehabilitation and Employment program.

An agency may not conduct or sponsor, and a person is not required to respond to a collection of information unless it displays a currently valid OMB control number. The Federal Register Notice with a 60-day comment period soliciting comments on this collection of information was published at 80 FR 03446 on February 19, 2015.

Affected Public: Individuals or households.

Estimated Annual Burden: 2,500 hours.

Estimated Average Burden per Respondent: 1 hour.

Frequency of Response: One-time.

Estimated Number of Respondents: 2,500.

By direction of the Secretary.
Kathleen M. Manwell,
VA Privacy Service, Office of Privacy and Records Management,Department of Veterans Affairs.

[FR Doc. 2015-16949 Filed 7-10-15; 8:45 am]

BILLING CODE 8320-01-P